DEPARTMENT OF ENERGY

Federal Energy Regulatory Commission

Combined Notice of Filings

Take notice that the Commission has received the following Natural Gas Pipeline Rate and Refund Report filings:

Filings Instituting Proceedings

Docket Numbers: RP19-1553-000.

Applicants: Iroquois Gas Transmission System, L.P.

Description: § 4(d) Rate Filing: 091219 Negotiated Rates—Mieco Inc. R-7080-11 to be effective 11/1/2019.

Filed Date: 9/12/19.

Accession Number: 20190912-5064.

Comments Due: 5 p.m. ET 9/24/19.

Docket Numbers: RP19-1554-000.

Applicants: Equitrans, L.P.

Description: § 4(d) Rate Filing: Formula Based Negotiated Rate—10/1/2019 Update to be effective 10/1/2019.

Filed Date: 9/12/19.

Accession Number: 20190912-5112.

Comments Due: 5 p.m. ET 9/24/19.

Docket Numbers: RP19-1555-000.

Applicants: Iroquois Gas Transmission System, L.P.

Description: § 4(d) Rate Filing: 091219 Negotiated Rates—Spark Energy Gas, LLC R-3045-26 to be effective 11/1/2019.

Filed Date: 9/12/19.

Accession Number: 20190912-5114.

Comments Due: 5 p.m. ET 9/24/19.

Docket Numbers: RP19-351-003.

Applicants: Tennessee Gas Pipeline Company, L.L.C.

Description: Compliance filing 2019 Settlement Compliance V1 to be effective 11/1/2019.

Filed Date: 9/12/19.

Accession Number: 20190912-5094.

Comments Due: 5 p.m. ET 9/24/19.

Docket Numbers: RP19-1556-000.

Applicants: Transcontinental Gas Pipe Line Company.

Description: Compliance filing Annual Cash-Out Report Period Ending July 31, 2019 to be effective N/A.

Filed Date: 9/13/19.

Accession Number: 20190913-5001.

Comments Due: 5 p.m. ET 9/25/19.

Docket Numbers: RP19-1557-000.

Applicants: Trunkline Gas Company, LLC.

Description: Compliance filing Annual Report of Flow Through filed 9-13-19 to be effective N/A.

Filed Date: 9/13/19.

Accession Number: 20190913-5017.

Comments Due: 5 p.m. ET 9/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2019.
Kimberly D. Bose,
Secretary.

[FR Doc. 2019-20256 Filed 9-18-19; 8:45 am]

BILLING CODE 6717-01-P